DEPARTMENT OF LABOR

Employment and Training Administration

[TA-W-38,657; TA-W-38,657A]

Lanier Clothes Division of Oxford Industries, Inc., et al., Amended Certification Regarding Eligibility to Apply for Worker Adjustment Assistance

In accordance with section 223 of the Trade Act of 1974 (19 U.S.C. 2273) the Department of Labor issued a Notice of Certification Regarding Eligibility to Apply for Worker Adjustment Assistance on March 7, 2001, applicable to workers of Lanier Clothes, Greenville, Georgia. The notice was published in the Federal Register on April 5, 2001 (66 FR 18117).

At the request of the company, the Department reviewed the certification for workers of the subject firm. The workers are engaged in the fusing of men's suits. New information shows that worker separations occurred at the Oxford Transport facility of Oxford Industries, Inc., Buford, Georgia. The Buford Georgia facility provides administrative support services to the subject firms' production facilities, including Lanier Clothes.

Accordingly, the Department is amending the certification to include the workers of the Oxford Transport facility of Oxford Industries, Buford, Georgia, and to correctly identify the subject firm title name to read Lanier Clothes, Division of Oxford Industries, Inc., Greenville, Georgia.

The intent of the Department's certification is to include all workers of Lanier Clothes, Division of Oxford Industries, Inc., Greenville, Georgia who were adversely affected by increased imports.

The amended notice applicable to TA-W-38,657 is hereby issued as follows:

All workers of Lanier Clothes, Division of Oxford Industries, Inc., Greenville, Georgia (TA-W-38,657) engaged in fusing operations, and workers of Oxford Transport, Oxford Industries, Inc., Buford, Georgia (TA-W-38,657A) who became totally or partially separated from employment on or after February 19, 2001, through March 7, 2003, are eligible to apply for adjustment assistance under Section 223 of the Trade Act of 1974.

Signed at Washington, DC this 31st day of May, 2001.
Linda G. Poole,
Certifying Officer Division of Trade Adjustment Assistance.

[FR Doc. 01-15042 Filed 6-13-01; 8:45 am]

BILLING CODE 4510-30-M